EXPORT-IMPORT BANK

[Public Notice: 2024-6097]

Agency Information Collection Activities: Submission to the Office of Management and Budget for Review and Approval; Comment Request; EIB 92-50, Application for Short-Term Multi-Buyer Export Credit Insurance Policy

AGENCY: Export-Import Bank of the United States.

ACTION: Notice of information collection; request for comment.

SUMMARY: The Export-Import Banks of the United States (EXIM), as part of its continuing effort to reduce paperwork and respondent burden, invites the general public and other Federal Agencies to comment on the proposed information collection, as required by the Paperwork Reduction Act of 1995.

DATES: Comments must be received on or before November 18, 2024 to be assured of consideration.

ADDRESSES: Comments may be submitted electronically on www.regulations.gov (EIB 92-50), by email edward.coppola@exim.gov, or by mail to Edward Coppola, Export-Import Bank of the United States, 811 Vermont Ave. NW Washington, DC

FOR FURTHER INFORMATION CONTACT: To request additional information, please contact Edward Coppola, edward.coppola@exim.gov, 202-565-3717.

SUPPLEMENTARY INFORMATION: This collection of information is necessary, pursuant to determine eligibility of the applicant for EXIM assistance. The Application for Short-Term Multi-Buyer Export Credit Insurance Policy will be used to determine the eligibility of the applicant and the transaction for Export-Import Bank assistance under its insurance program. Export-Import Bank customers will be able to submit this form on paper or electronically.

The application tool can be reviewed at: https://img.exim.gov/s3fs-public/pub/pending/Multi-Buyer_Application_eib92-50_2024_FINAL_508.pdf.

Title and Form Number: EIB 92-50, Application for Short-Term Multi-Buyer Export Credit Insurance Policy.

OMB Number: 3048-0023.

Type of Review: Regular.

Need and Use: The Application for Short-Term Multi-Buyer Export Credit Insurance Policy will be used to determine the eligibility of the applicant and the transaction for Export-Import Bank assistance under its insurance program.

Affected Public: This form affects entities involved in the export of U.S. goods and services.

Annual Number of Respondents: 250.

Estimated Time per Respondent: 0.5 hours.

Annual Burden Hours: 125.

Frequency of Reporting of Use: As needed.

Dated: September 13, 2024.
Andrew Smith,
Records Officer.

[FR Doc. 2024-21223 Filed 9-17-24; 8:45 am]

BILLING CODE 6690-01-P